DEPARTMENT OF ENERGY

Federal Energy Regulatory Commission

[Project No. 14339-000]

Lock+ Hydro Friends Fund VII; Notice of Preliminary Permit Application Accepted for Filing and Soliciting Comments, Motions To Intervene, and Competing Applications

On December 22, 2011, Lock+ Hydro Friends Fund VII filed an application for a preliminary permit under section 4(f) of the Federal Power Act proposing to study the feasibility of the proposed Mississippi River Chain of Rocks Project No. 14339, to be located immediately upstream of the existing Chain of Rocks impoundment on the Mississippi River, near the City of Madison, in Madison County and St. Clair County, Illinois, and St. Louis County, Missouri. The Chain of Rocks impoundment is owned by the United States Government and operated by the United States Army Corps of Engineers.

The proposed project would consist of: (1) A new 3,124-foot-long by 30-foot-high dam constructed with concrete-filled steel cylinders; (2) a new 150-foot-long by 400-foot-wide concrete powerhouse; (3) ten new 12,500-kilowatt low-head bulb hydropower turbines/generators with a total combined generating capacity of 125 megawatts; (4) a new 400-foot-wide intake channel; (5) a new 50-foot-wide by 50-foot-long switchyard; (6) a new 400-foot-wide by 200-foot-long tailrace; (7) a new 9-mile-long, 161-kilovolt transmission line; and (8) appurtenant facilities. The project would have an estimated annual generation of 766,500 megawatt-hours.

Applicant Contact: Mr. Wayne F. Krouse, 900 Oakmont Lane, Suite 310, Westmont, IL 60559; (877) 556-6566.

FERC Contact: Tyrone A. Williams, (202) 502-6331.

Deadline for filing comments, motions to intervene, and competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14339-000) in the docket number field to access the document. For assistance, contact FERC Online Support.

Dated: March 5, 2012.
Kimberly D. Bose,
Secretary.

[FR Doc. 2012-5848 Filed 3-9-12; 8:45 am]

BILLING CODE 6717-01-P